DEPARTMENT OF JUSTICE

[OMB Number 1121-0277]

Agency Information Collection Activities; Proposed Collection and Comments Requested; Extension Without Change, of a previously Approved Collection #1121-0277: OJJDP National Training and Technical Assistance Center (NTTAC) Feedback Form Package

AGENCY: Office of Juvenile Justice and Delinquency Prevention, Office of Justice Programs, Department of Justice.

ACTION: 60-Day notice.

SUMMARY: The Department of Justice (DOJ), Office of Justice Programs (OJP), will be submitting the following information collection request to the Office of Management and Budget (OMB) for review and approval in accordance with the Paperwork Reduction Act of 1995.

DATES: Comments are encouraged and will be accepted for 60 days until July 28, 2025.

FOR FURTHER INFORMATION CONTACT: If you have comments, especially on the estimated public burden or associated response time, suggestions, or need a copy of the proposed information collection instrument with instructions or additional information please contact Jill Molter, Digital Communications and Training and Technical Assistance Coordinator, OJJDP's NTTAC COR at 202-514-8871, Office of Juvenile Justice and Delinquency Prevention, Office of Justice Programs, Department of Justice, 999 North Capitol Street NE, Washington, DC 20002 or by email at jill.molter@usdoj.gov. Written comments and/or suggestions can also be sent to the Office of Management and Budget, Office of Information and Regulatory Affairs, Attention Department of Justice Desk Officers, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Office of Juvenile Justice and Delinquency Prevention, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: OJJDP NTTAC Feedback Form Package.

3. The Agency Form Number: OJJDP NTTAC, all forms included in package #1121-0277.

4. Affected public who will be asked or required to respond, as well as a brief abstract:

Primary: Individuals or households.

Other: Federal Government, State, local or Tribal government; Not-for-profit institutions; Businesses or other for-profit.

Abstract: The Office of Juvenile Justice and Delinquency Prevention National Training and Technical Assistance Center (NTTAC) Feedback Form Package is designed to collect in-person and online data necessary to continuously assess the outcomes of the assistance provided for both monitoring and accountability purposes and for continuously assessing and meeting the needs of the field. OJJDP's NTTAC will send these forms to technical assistance (TA) recipients; conference attendees; training and TA providers; online meeting participants; in-person meeting participants; and focus group participants to capture important feedback on the recipients' satisfaction with the quality, efficiency, referrals, information and resources provided and assess the recipients' additional training and TA needs. The data will then be used to advise NTTAC on ways to improve the support provided to its users; the juvenile justice field at-large; and ultimately improve services and outcomes for youth.

5. An estimate of the total number of respondents and the amount of time estimated for an average respondent to respond: It is estimated that 4,756 respondents will complete forms, and the response time will range from .03 hours to 1.5 hours.

6. An estimate of the total public burden (in hours) associated with the collection: There are an estimated 430.5 total annual burden hours associated with this collection.

If additional information is required, contact Darwin Arceo, Department Clearance Officer, Policy and Planning Staff, Justice Management Division, United States Department of Justice, Two Constitution Square, 145 N Street NE, 4W-218 Washington, DC 20530.

Dated: May 21, 2025.
Darwin Arceo,
Department Clearance Officer for PRA, U.S. Department of Justice.

[FR Doc. 2025-09463 Filed 5-23-25; 8:45 am]

BILLING CODE 4410&ndash13-P